DEPARTMENT OF THE INTERIOR

Bureau of Land Management

[17X.LLAZA01000.L54400000.EQ0000.LVCLA17ZNAA0; AZA-024176]

Notice of Realty Action: Proposed Mesquite, Nevada Airport Lease Renewal/Amendment

AGENCY: Bureau of Land Management, Interior.

ACTION: Notice of realty action.

SUMMARY: The Bureau of Land Management (BLM) has examined and found suitable for lease to the City of Mesquite, Nevada, for airport purposes under the Act of May 24, 1928, as amended, a parcel of public land located in Mohave County, Arizona, totaling approximately 6.005 acres. The City of Mesquite has applied for a renewal lease and to amend its lease to bring it into Federal Aviation Administration (FAA) safety compliance standards.

DATES: Interested parties may submit written comments regarding the proposed lease renewal and amendment to the existing lease on or before July 13, 2018.

ADDRESSES: Comments concerning this notice should be addressed to Lorraine M. Christian, Field Manager, BLM Arizona Strip Field Office, 345 East Riverside Dr., St. George, UT 84790.

FOR FURTHER INFORMATION CONTACT: Amanda Harrington, Assistant Field Office Manager, at the above address; phone 435-688-3271; or by email at asharrin@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: The BLM has examined and found the following described public land in Mohave County, Arizona, suitable for lease under the Act of May 24, 1928, as amended (49 U.S.C. Appendix 211-213), and 43 CFR 2911:

BEING A PORTION OF THE NORTHWEST QUARTER (NW¼) OF SECTION 29, TOWNSHIP 40 NORTH, RANGE 16 WEST, GILA AND SALT RIVER MERIDIAN, MOHAVE COUNTY, ARIZONA;

BEGINNING AT MILE POST 311 ON THE ARIZONA NEVADA STATE LINE, SAID MILE POST BEING NORTH 01°40′13″ WEST, 4424.95 FEET FROM THE SOUTHWEST CORNER OF SAID SECTION 29, TOWNSHIP 40 NORTH, RANGE 16 WEST, GILA AND SALT RIVER MERIDIAN;

THENCE CONTINUING ALONG SAID STATE LINE, NORTH 01°40′13″ WEST, A DISTANCE OF 100.43 FEET; THENCE LEAVING SAID LINE, SOUTH 42°12′37″ EAST, A DISTANCE OF 194.53 FEET; THENCE SOUTH 71°07′11″ EAST, A DISTANCE OF 43.96 FEET; THENCE SOUTH 17°38′46″ EAST, A DISTANCE OF 469.15 FEET; THENCE SOUTH 16°43′14″ WEST, A DISTANCE OF 126.23 FEET; THENCE SOUTH 12°28′57″ WEST, A DISTANCE OF 519.17 FEET; THENCE SOUTH 27°38′58″ WEST, A DISTANCE OF 265.39 FEET TO SAID STATE LINE; THENCE NORTH 01°40′13″ WEST, A DISTANCE OF 1,368.45 FEET TO THE POINT OF BEGINNING.

HAVING AN AREA OF 261,891 SQUARE FEET, 6.01 ACRES, MORE OR LESS.

BASIS OF BEARING

N 01°40′13″ W, BEING THE WEST LINE OF SECTION 29, TOWNSHIP 40 NORTH, RANGE 16 WEST, GILA AND SALT RIVER MERIDIAN, MOHAVE COUNTY, ALSO BEING THE STATE LINE OF NEVADA AND ARIZONA FROM THE SOUTHWEST CORNER OF SAID SECTION 29 TO MILE MARKER 311, AS SHOWN ON THE UNRECORDED DRAWING TITLED BLM/AIRPORT LEASED LAND FOR THE CITY OF MESQUITE NEVADA.

This notice informs the public that the City of Mesquite, in coordination with the FAA, submitted an application to both renew and amend its existing airport lease (AZA-24176) to comply with FAA requirements. The proposal is includes relinquishing 0.74 acres of the lease in an area northeast of the airport, referred to as the NAV AID site, which is no longer needed, and leasing an additional 0.76 acres to the north and south of the current lease area in order to move the existing perimeter fence outside of the obstacle-free zone. This would bring the total acreage of the leased area to approximately 6.005 acres.

Issuance of the lease is in accordance with the Arizona Strip Resource Management Plan (RMP), Decision No. MA-LR-06. Individual land use authorizations (rights-of-way, permits, leases, easements) will be evaluated on a case-by-case basis in accordance with other RMP provisions and compliance with the requirements of the National Environmental Policy Act.

This notice segregates the above-described public lands from operation of the public land laws, including the mining laws. The segregative effect will end upon issuance of the lease or on May 29, 2019, whichever occurs first.

Application Comments: Interested parties may submit comments regarding the specific use proposed in the application or any other factor not directly related to the suitability of the lands for an airport lease. The BLM Arizona State Director will review any adverse comments. In the absence of any adverse comments, the decision will become final. The lands will not be offered for lease until a determination of significance and Decision Record have been signed for the completed Environmental Assessment.

Before including your address, phone number, email address, or other personal identifying information in your comment, you should be aware that your entire comment—including your personal identifying information—may be made available to the public at any time. While you can ask in your comment to withhold your personal identifying information from public review, we cannot guarantee that we will be able to do so.

Authority: 43 CFR 2911.

Lorraine M. Christian,
Field Manager.

[FR Doc. 2018-11452 Filed 5-25-18; 8:45 am]

BILLING CODE 4310-32-P